DEPARTMENT OF THE INTERIOR

Bureau of Land Management

[LLNVB01000 L51100000.GN0000.LVEMF12CF010 241A; NVN-082096; NVN-084632; NVN-091272; 12-08807; MO# 4500039779; TAS: 14X5017]

Notice of Availability of the Final Environmental Impact Statement for the Mount Hope Project, Eureka County, NV

Correction

In notice document 2012-25182, appearing on pages 62256-62257 in the issue of Friday, October 12, 2012, make the following correction:

On page 62256, in the second column, on the twenty-eigth and twenty-ninth lines, “Eureka County, NE” should read “Eureka County, Nevada”.

[FR Doc. C1-2012-25182 Filed 10-19-12; 8:45 am]

BILLING CODE 1505-01-D